DEPARTMENT OF THE INTERIOR

National Park Service

[NPS-NERO-CEBE-11101; 4240-SZM]

Notice of Public Meetings for Cedar Creek and Belle Grove National Historical Park Advisory Commission

AGENCY: National Park Service, Interior.

ACTION: Notice of Meetings.

SUMMARY: Notice is hereby given in accordance with the Federal Advisory Committee Act that meetings of the Cedar Creek and Belle Grove National Historical Park Advisory Commission will be held to discuss the implementation of the Park's general management plan.

Date: September 20, 2012.

Location: Warren County Government Center, 220 North Commerce Avenue, Front Royal, VA 22360.

Date: December 20, 2012.

Location: Strasburg Town Hall Council Chambers, 174 East King Street, Strasburg, VA 22657.

Date: March 21, 2013.

Location: Middletown Town Council Chambers, 7875 Church Street, Middletown, VA 22645.

Date: June 20, 2013.

Location: Warren County Government Center, 220 North Commerce Avenue, Front Royal, VA 22630.

Agenda

The Commission meetings will consist of the following:

1. General Introductions

2. Review and approval of Commission Meeting Notes

3. Reports and Discussions

4. Old Business

5. New Business

6. Closing Remarks

All meetings are open to the public and begin at 8:30 a.m.

FOR FURTHER INFORMATION CONTACT: Diann Jacox, Superintendent, Cedar Creek and Belle Grove National Historical Park, P.O. Box 700, Middletown, Virginia 22645, telephone (540) 868-9176.

SUPPLEMENTARY INFORMATION: All meetings are open to the public. Topics to be discussed include: visitor services and interpretation—including directional and interpretive signage and visitor facilities, land protection planning, historic preservation, and natural resource protection.

The Park Advisory Commission was designated by Congress to advise on the preparation and implementation of the park's general management plan. Individuals who are interested in the Park, the implementation of the plan, or the business of the Commission are encouraged to attend the meetings. Interested persons may make oral comments to the Commission. Scheduling of public comments during the Commission meeting will be determined by the chairperson of the Commission.

Before including your address, phone number, email address, or other personal identifying information in your comment, you should be aware that your entire comment—including your personal identifying information—may be made publicly available at any time. While you can ask us in your comment to withhold your personal identifying information from public review, we cannot guarantee that we will be able to do so.

Dated: August 27, 2012.
Diann Jacox,
Superintendent, Cedar Creek and Belle Grove National Historical Park.

[FR Doc. 2012-21565 Filed 8-30-12; 8:45 am]

BILLING CODE 4310-AR-P